DEPARTMENT OF ENERGY

Federal Energy Regulatory Commission

[Project No. 12737-002]

Jordan Limited Partnership; Notice of Application Accepted for Filing and Soliciting Motions To Intervene and Protests

January 15, 2010.

Take notice that the following hydroelectric application has been filed with the Commission and is available for public inspection:

a. Type of Application: Original Major License.

b. Project No.: 12737-002.

c. Date filed: April 16, 2009.

d. Applicant: Jordan Limited Partnership.

e. Name of Project: Gathright Hydroelectric Project.

f. Location: On the Jackson River in Alleghany County, Virginia at the existing U.S. Army Corps of Engineers Gathright Dam.

g. Filed Pursuant to: Federal Power Act, 16 U.S.C. 791 (a)-825(r).

h. Applicant Contact: Mr. James B. Price, W.V. Hydro, Inc., P.O. Box 903, Gatlinburg, Tennessee 37738 (865) 436-0402.

i. FERC Contact: Jeffrey Browning, (202) 502-8677 or jeffrey.browning@ferc.gov.

j. Deadline for filing motions to intervene and protests: 60 days from the issuance date of this notice.

All documents may be filed electronically via the Internet. See 18 CFR 385.2001(a)(1)(iii) and the instructions on the Commission's Web site (http://www.ferc.gov/docs-filing/ferconline.asp) under the “eFiling” link. For a simpler method of submitting text only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426.

The Commission's Rules of Practice and Procedures require all intervenors filing documents with the Commission to serve a copy of that document on each person on the official service list for the project. Further, if an intervenor files comments or documents with the Commission relating to the merits of an issue that may affect the responsibilities of a particular resource agency, they must also serve a copy of the document on that resource agency.

k. This application has been accepted for filing, but is not ready for environmental analysis at this time.

l. Project Description: The existing Corps facilities consist of: (1) The 257-foot-high, 1,172-foot-long rock-fill Gathright Dam with an impervious core with a 32-foot-wide top; (2) the 2,530-acre Lake Moomaw at a normal conservation pool water surface elevation of 1,582.0 feet National Geodetic Vertical Datum; (3) an outlet works comprised of an intake tower with 10 water quality intake gates, two intake tunnel passageways (north and south), an outlet tunnel, a stilling basin and outlet channel; and (4) an emergency spillway located 2.4-miles south of the dam comprised of an ungated and unpaved 2,680-foot-long, 100-foot-wide trapezoidal channel.

The proposed project would utilize the head created by the existing dam and consist of: (1) A new 155-foot-high, 16-foot-wide, 10-foot-deep intake module attached to the existing intake tower upstream of the south tunnel passageway trashrack; (2) one new 3.7-megawatt generating unit attached to the top of the intake module; (3) one new Francis turbine and draft tube at the bottom of the intake module; (4) a new 0.94-mile-long, 46-kilovolt transmission line; and (5) appurtenant facilities.

m. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via e-mail of new filings and issuances related to this or other pending projects. For assistance, contact FERC Online Support.

n. Any qualified applicant desiring to file a competing application must submit to the Commission, on or before the specified intervention deadline date, a competing development application, or a notice of intent to file such an application. Submission of a timely notice of intent allows an interested person to file the competing development application no later than 120 days after the specified intervention deadline date. Applications for preliminary permits will not be accepted in response to this notice.

A notice of intent must specify the exact name, business address, and telephone number of the prospective applicant, and must include an unequivocal statement of intent to submit a development application. A notice of intent must be served on the applicant(s) named in this public notice.

Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

When the application is ready for environmental analysis, the Commission will issue a public notice requesting comments, recommendations, terms and conditions, and prescriptions.

All filings must (1) bear in all capital letters the title “PROTEST” or “MOTION TO INTERVENE,” “NOTICE OF INTENT TO FILE COMPETING APPLICATION,” or “COMPETING APPLICATION;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

Kimberly D. Bose,
Secretary.

[FR Doc. 2010-1391 Filed 1-25-10; 8:45 am]

BILLING CODE 6717-01-P